APPALACHIAN STATES LOW-LEVEL RADIOACTIVE WASTE COMMISSION

Annual Meeting

Time and Date: 10 a.m.-12:30 p.m. November 3, 2006.

Place: Harrisburg Hilton and Towers, One North Second Street, Harrisburg, PA 17101.

Status: Most of the meeting will be open to the public. If there is a need for an executive session (closed to the public), it will be announced at the meeting.

Matters To Be Considered:

Portions Open To The Public: The primary purpose of this meeting is to (1) Review the independent auditors' report of Commission's financial statements for fiscal year 2005-2006; (2) Review the Low-Level Radioactive Waste (LLRW) generation information for 2005; (3) Consider a proposal budget for fiscal year 2007-2008; (4) Review recent national developments regarding LLRW management and disposal; (5) Review the results of a survey of LLRW generators in the Compact; and (6) Elect the Commission's Officers.

Portions Closed To The Public: Executive Session, if deemed necessary, will be announced at the meeting.

FOR FURTHER INFORMATION CONTACT: Rich Janati, Administrator of the Commission, at 717-787-2163.

Rich Janati,
Administrator, Appalachian Compact Commission.

[FR Doc. 06-8899 Filed 10-25-06; 8:45 am]

BILLING CODE 0000-00-M